DEPARTMENT OF HEALTH AND HUMAN SERVICES

Delegation of Authorities

Notice is hereby given that I have delegated to the Administrator, Health Resources and Services Administration (HRSA), the authorities vested in the Secretary under Section 1861(aa)(4)(B) (42 U.S.C. 1395x(aa)(4)(B)) of the Social Security Act (the Act), as amended, and Section 1905(l)(2)(B)(iii) (42 U.S.C. 1396d(l)(2)(B)(iii)) of the Act, as amended, to make determinations that entities meet the requirements for receiving a grant under section 330 of the Public Health Service Act, as amended, and to qualify to be federally qualified health centers (FQHCs).

I hereby amend the authorities delegated to CMS under Title XVIII of the Act (42 U.S.C. 1395 et seq.) and Title XIX of the Act (42 U.S.C. 1396 et seq.) that were published in the Federal Register notice on September 6, 1984 and contained in Section F.50.—Limitations of Authority, 2.—Under Title XVIII of the Social Security Act (42 U.S.C. 1395 et. seq), is amended by adding the following paragraph:

f. The Health Resources and Services Administration shall exercise the authority under section 1861(aa)(4)(B) (42 U.S.C. 1395x(aa)(4)(B)) of the Social Security Act to make determinations that entities meet the requirements for receiving a grant under section 330 of the Public Health Service Act, and to qualify as a federally qualified health center. This authority will not extend to issues of payment rates or provider enrollment under Title XVIII of the Act. Section F.50.—Limitations of Authority, 3.—Under Title XIX of the Social Security Act (42 U.S.C. 1396 et. seq), is amended by adding the following paragraph:

d. The Health Resources and Services Administration shall exercise the authority under section 1905(l)(2)(B)(iii) (42 U.S.C. 1396d(l)(2)(B)(iii)) of the Social Security Act to make determinations that entities meet the requirements for receiving a grant under section 330 of the Public Health Service Act, and to qualify as a federally qualified health center. This authority will not extend to issues of payment rates or provider enrollment under Title XIX of the Act.

I instruct HRSA to consult and collaborate with CMS, as appropriate. HRSA will notify the appropriate regional office of its determination that entities meet the requirements to qualify as an FQHC in order to ensure that CMS' provider enrollment process continues without interruption.

This delegation of authority excludes the authority to issue regulations, to establish advisory committees and councils, and appoint their members, and shall be exercised in accordance with the Department's applicable policies, procedures, and guidelines.

I hereby affirm and ratify any actions taken by the Administrator, HRSA, and Administrator, CMS, or other HRSA and CMS officials, which involve the exercise of the authorities prior to the effective date of this delegation of authority.

These authorities may be re-delegated.

This delegation of authority is effective upon date of signature.

Authority: 44 U.S.C. 3101.

Dated: November 15, 2012.
Kathleen Sebelius,
Secretary.

[FR Doc. 2012-29409 Filed 12-4-12; 8:45 am]

BILLING CODE 4150-03-P